DEPARTMENT OF ENERGY

Federal Energy Regulatory Commission

[Docket No. RP01-503-001]

Natural Gas Pipeline Company of America; Notice of Technical Conference

February 27, 2002.

In the Commission's order issued on February 1, 2002,¹ the Commission directed that a technical conference be held to address issues raised by the filing.

¹ Natural Gas Pipeline Company of America, 98 FERC ¶ 61,099 (2002).

Take notice that the technical conference will be held on Tuesday, March 19, 2002, at 10:30 a.m., in a room to be designated at the offices of the Federal Energy Regulatory Commission, 888 First Street, NE., Washington, DC 20426.

All interested parties and Staff are permitted to attend.

Magalie R. Salas,
Secretary.

[FR Doc. 02-5175 Filed 3-4-02; 8:45 am]

BILLING CODE 6717-01-P